DEPARTMENT OF HEALTH AND HUMAN SERVICES

Administration for Children and Families

Proposed Information Collection Activity; Comment Request

Proposed Projects

Title: Trafficking Victims Tracking System.

OMB No.: 0970-NEW.

Description: The Trafficking Victims Protection Act, Public Law 106-386, Division A, 114 Stat. 1464 (2000), requires the Department of Health and Human Services (HHS) to certify adult alien (“foreign”) victims of severe forms of trafficking in persons (“human trafficking”) who are willing to assist law enforcement in the investigation and prosecution of human trafficking, unless unable to cooperate due to physical or psychological trauma, and who have either made a bona fide application for T nonimmigrant status that has not been denied or been granted Continued Presence (CP) from the U.S. Department of Homeland Security (DHS). Issued by the Office of Refugee Resettlement (ORR) within the HHS Administration for Children and Families, certification letters grant adult foreign victims of human trafficking access to federal and state benefits and services to the same extent as refugees.

In general, ORR initiates the certification process when it receives a notice from DHS that DHS has granted a foreign victim of trafficking CP or T nonimmigrant status, or has determined an application for T nonimmigrant status is bona fide. To issue certification letters, it is necessary for ORR to collect information from a victim's representative, such as an attorney, case manager, or law enforcement victim specialist, including an address to send the letter. In line with other ORR Anti-Trafficking in Persons Program activities, ORR may ask if the victim is in need of a service provider and the current location (city, state) of the victim, and refer the victim to an appropriate service provider in his or her area, if requested. ORR will also ask about the victim's language and urgent concerns, such as medical care or housing, and transmit this information to the service provider.

Finally ORR collects information, such as the victim's sex and the type of human trafficking the victim experienced, to provide to Congress in an annual report on U.S. Government activities to combat trafficking that is prepared by the U.S. Department of Justice. Congress requires HHS and other appropriate Federal agencies to report, at a minimum, information on the number of persons who received benefits or other services under subsections (b) and (f) of section 7105 of Title 22 of the U.S. Code, the TVPA, in connection with programs or activities funded or administered by HHS. HHS includes in these annual reports additional information about the victims that it collects when assisting each victim to obtain certification or eligibility. ORR will store this information and any other details regarding the victim's case in the Trafficking Victims Tracking System (TVTS) on ORR's secure database. Other details maintained in the victim's file may include ORR staff actions, referrals, and notes regarding the victim's interest in receiving services. Maintaining victim records on TVTS will ensure efficient service for victims, allow ORR staff to track victims' progress toward certification, verify their eligibility for benefits, and organize information for reporting to Congress.

The TVTS also includes information about foreign victims of trafficking and potential victims who were minors when an eligibility letter was sought from ORR. Information about these individuals is collected pursuant to an OMB-approved collection, OMB Control Number 0970-0362.

In January 2011, the Archivist of the United States approved an Electronic System Schedule for the disposition of TVTS records.

Respondents: Respondents can include attorneys, legal representatives, social service providers, case managers, and volunteers acting on behalf of the adult foreign victim of trafficking.

Annual Burden Estimates
Instrument | Number of respondents | Number of responses per respondent | Average burden hours per response | Total burden hours
Request for information | 800 | 1 | .1 | 80
Estimated Total Annual Burden Hours |  |  |  | 80

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-13529 Filed 6-10-14; 8:45 am]

BILLING CODE 4184-01-P